DEPARTMENT OF HOMELAND SECURITY

Coast Guard

33 CFR Part 165

[Docket No. USCG-2024-0257]

Safety Zone; Moosabec 4th of July Fireworks, Jonesport, ME

AGENCY: Coast Guard, DHS.

ACTION: Notification of enforcement of regulation.

SUMMARY: The Coast Guard will enforce the safety zone for the Moosabec 4th of July Committee Fireworks on June 29, 2024, to provide for the safety of life on navigable waterways. Our regulations for safety zones for annually recurring marine events held in Coast Guard Northern New England Captain of the Port Zone identify the regulated area for this event. During the enforcement periods, the operator of any vessel in the regulated area must comply with directions from the Designated Representative or any Official Patrol displaying a Coast Guard ensign.

DATES: The regulations in 33 CFR 165.171 will be enforced from 9 p.m. until 9:30 p.m. on June 29, 2024.

FOR FURTHER INFORMATION CONTACT: If you have questions about this notification of enforcement, call or email MSTC Zachary Wetzel, Sector Northern New England, U.S. Coast Guard; telephone 207-808-9137, email NNEWaterways@uscg.mil.

SUPPLEMENTARY INFORMATION: The Coast Guard will enforce the safety zone listed in 33 CFR 165.171 for the Moosabec 4th of July Committee Fireworks regulated area from 9 p.m. to 9:30 p.m. on June 29, 2024. This action is being taken to provide for the safety of life on navigable waterways during this one-day event, which will feature live fireworks. The regulation for marine events within the First Coast Guard District, § 165.171, specifies the location of the regulated area for the Moosabec 4th of July Committee Fireworks which encompasses portions of the Gulf of Maine. During the enforcement period, vessels in the regulated area must comply with directions from the Designated Representative or any Official Patrol displaying a Coast Guard ensign.

In addition to this notification of enforcement in the Federal Register, the Coast Guard plans to provide notification of this enforcement period via the Local Notice to Mariners and marine information broadcasts.

Amy E. Florentino,
Captain, U.S. Coast Guard, Captain of the Port, Sector Northern New England.

[FR Doc. 2024-11474 Filed 5-23-24; 8:45 am]

BILLING CODE 9110-04-P